DEPARTMENT OF THE INTERIOR

Bureau of Land Management

[CA-650-1430-ET; CACA 42078]

Public Land Order No. 7459; Partial Revocation of California Desert Protection Act of 1994; California

AGENCY: Bureau of Land Management, Interior.

ACTION: Public land order.

SUMMARY: This order partially revokes the California Desert Protection Act of 1994 insofar as it affects 42.3 acres within the boundaries of the China Lake Naval Weapons Center withdrawn for the Department of the Navy for military purposes. The land is no longer needed for the purpose for which it was withdrawn. This action returns the land to Bureau of Land Management administration and opens it to surface entry and mineral leasing. The land will remain withdrawn from mining due to an overlapping withdrawal.

EFFECTIVE DATE: August 25, 2000.

FOR FURTHER INFORMATION CONTACT: Duane Marti, BLM California State Office, 2800 Cottage Way, Suite W-1834, Sacramento, California 95825-1886, 916-978-4675.

By virtue of the authority vested in the Secretary of the Interior by Section 204 of the Federal Land Policy and Management Act of 1976, 43 U.S.C. 1714 (1994), and by Section 808 of the California Desert Protection Act of 1994, 108 Stat. 4506, it is ordered as follows:

1. The withdrawal created by Section 803(a) of the California Desert Protection Act of 1994, for military purposes, is hereby revoked insofar as it affects the following described land:

Mount Diablo Meridian

T. 27 S., R. 41 E.,

Sec. 5, that portion more particularly described in Record of Survey 98-0045 on file in the Official Records of the County of San Bernardino Recorder's Office, in Book 110 at Pages 95 and 96 of the Record of Survey.

The area described contains 42.3 acres, more or less, in San Bernardino County.

2. At 10 a.m. on August 25, 2000, the land will be opened to the operation of the public land laws generally, subject to valid existing rights, the provisions of existing withdrawals, other segregations of record, and the requirements of applicable law. All valid applications received at or prior to 10 a.m. on August 25, 2000, shall be considered as simultaneously filed at that time. Those received thereafter shall be considered in the order of the filing.

3. At 10 a.m. on August 25, 2000, the land will be opened to the operation of the mineral leasing laws, subject to valid existing rights, the provisions of existing withdrawals, other segregations of record, and the requirements of applicable law.

Dated: July 7, 2000.
Sylvia V. Baca,
Assistant Secretary of the Interior.

[FR Doc. 00-18886 Filed 7-25-00; 8:45 am]

BILLING CODE 4310-40-P